DEPARTMENT OF JUSTICE

Antitrust Division

Notice Pursuant to the National Cooperative Research and Production Act of 1993—National Spectrum Consortium

Notice is hereby given that, on July 13, 2020, pursuant to Section 6(a) of the National Cooperative Research and Production Act of 1993, 15 U.S.C. 4301 et seq. (“the Act”), National Spectrum Consortium (“NSC”) has filed written notifications simultaneously with the Attorney General and the Federal Trade Commission disclosing changes in its membership. The notifications were filed for the purpose of extending the Act's provisions limiting the recovery of antitrust plaintiffs to actual damages under specified circumstances. Specifically, Ciena Government Solutions, Inc., Hanover, MD; NetScout Systems, Inc. Westford, MA; Device Solutions Inc., Hillsborough, NC; Rodriguez, Jonathan, La Habra, CA; Wind River Systems, Alameda, CA; Science Applications International Corporation (SAIC), Reston, VA; Dualos, LLC, Tacoma, WA; Federal Data Systems LLC (FEDDATA), Columbia, MD; MicroHealth, LLC, Vienna, VA; Textron Systems Corporation, Hunt Valley, MD; NVIDIA Corporation, Santa Clara, CA; Spirent Communications, Inc., San Jose, CA; BANC3, Inc., Princeton, NJ; Wyle Laboratories, Inc., Huntsville, AL; Aqsacom Incorporated, Irving, TX; Mimyr, LLC, Torrance, CA; Trex Enterprises Corporation, San Diego, CA; Waterleaf International LLC, Fort Myers, FL; Axellio Inc., Colorado Springs, CO; Rakuten USA, Inc., San Mateo, CA; Bear Systems, Boulder, CO; Cybernet Systems Corporation, Anna Arbor, MI; IT Consulting Partners, LLC (ITC), Chagrin Falls, OH; Novaa Ltd., Dublin, OH; Sabre Systems, Inc., Warrington, PA; Tilson Technology Management Inc., Portland, ME; TLC Solutions, Inc., Saint Augustine, FL; ComSovereign Corp., Tucson, AZ; University at Albany, Albany, NY; Vectrona, LLC, Virginia Beach, VA; Celona Inc., Cupertino, CA; Tribalco, LLC, Bethesda, MD; Accenture Federal Services LLC, Arlington, VA; CGI Federal Inc., Fairfax, VA; Garou Inc., New York, NY; Innovative Power LLC, Sterling, VA; Pinnacle Solutions, Inc., Huntsville, AL; Rajant Corporation Malvern, PA; Resonant Sciences LLC, Dayton, OH; Hewlett Packard Enterprise Company (HP), Reston, VA; Arizona State University Tempe, AZ; General Dynamics Information Technology, Inc., Falls Church, VA; Mobilestack Inc, Dublin, CA; Opex Systems LLC, Marietta, GA; Ravenswood Solutions, Fremont, CA; Trabus Technologies, Inc., San Diego, CA; AT&T Government Solutions, Inc., Oakton, VA, Cole Engineering Services, Inc. (CESI), Orlando, FL; JANUS Research Group, LLC, Evans, GA; Microsoft Corporation, Redmond, WA; Nexagen Networks Inc., Morganville, NJ; Palo Alto, Networks Public Sector, LLC, Reston, VA; Pn Automation, Inc., Halethorpe, MD; RDA Technical Services (Robert Doto Associates, LLC), Ft. Myers, FL; Southern Methodist University Dallas, TX; Undergrid Networks, Inc., Atlanta GA; and SecureG, Inc., Herndon, VA have been added as parties to this venture.

Ciyis LLC, Atlanta, GA; Infinite Dimensions Integration, Inc., West Plains, MO; Spectronn, Holmdel, NJ; Genesys Technologies, Ltd., Langhorne, PA; Oceanit Laboratories, Inc., Honolulu, HI; The University of Chicago, Chicago, IL; SAZE Technologies, LLC, Silver Spring, MD; C-3 Comm Systems, LLC, Arlington, VA; D-TA Systems Corporation, Centennial, CO; DataSoft Corporation, Tempe, AZ; Fregata Systems LLC, St. Louis, MO; Quantum Dimension, Inc., Huntington Beach, CA; Innovation Finance Group, Bethesda, MD; General Dynamics SATCOM Technologies, Inc., State College, PA; C6I Services Corp., Chesterfield, NJ; Comtech EF Data, Tempe, AZ; SCI Technology, Inc., Huntsville, AL; Applied Engineering Concepts, Inc., Eldersburg, MD; Armaments Research Company, Inc., Bethesda, MD; Raven Defense Corporation, Albuquerque, NM; and Solvaren, LLC, Wall, NJ, have been added as parties to this venture.

Also, Expedition Technology, Inc., Dulles, VA; Telspan Data, LLC, Concord, CA; and Red Balloon Security, Inc., New York, NY, have withdrawn as parties from this venture.

No other changes have been made in either the membership or planned activity of the group research project. Membership in this group research project remains open, and NSC intends to file additional written notifications disclosing all changes in membership.

On September 23, 2014, NSC filed its original notification pursuant to Section 6(a) of the Act. The Department of Justice published a notice in the Federal Register pursuant to Section 6(b) of the Act on November 4, 2014 (72 FR 65424).

The last notification was filed with the Department on April 22, 2020. A notice was published in the Federal Register pursuant to Section 6(b) of the Act on May 6, 2020 (85 FR 26988).

Suzanne Morris,
Chief, Premerger and Division Statistics, Antitrust Division.

[FR Doc. 2020-16650 Filed 7-30-20; 8:45 am]

BILLING CODE P